DEPARTMENT OF ENERGY

Federal Energy Regulatory Commission

Combined Notice of Filings #1

Take notice that the Commission received the following exempt wholesale generator filings:

Docket Numbers: EG22-84-000.

Applicants: WPL North Rock Solar, LLC.

Description: WPL North Rock Solar, LLC submits Notice of Self-Certification of Exempt Wholesale Generator Status.

Filed Date: 4/5/22.

Accession Number: 20220405-5148.

Comment Date: 5 p.m. ET 4/26/22.

Docket Numbers: EG22-85-000.

Applicants: Concho Valley Solar, LLC.

Description: Concho Valley Solar, LLC submits Notice of Self-Certification of Exempt Wholesale Generator Status.

Filed Date: 4/6/22.

Accession Number: 20220406-5177.

Comment Date: 5 p.m. ET 4/27/22.

Take notice that the Commission received the following electric rate filings:

Docket Numbers: ER18-1106-003.

Applicants: Kestrel Acquisition, LLC.

Description: Compliance filing: Compliance to 1 to be effective 4/7/2022.

Filed Date: 4/6/22.

Accession Number: 20220406-5182.

Comment Date: 5 p.m. ET 4/27/22.

Docket Numbers: ER21-2496-002.

Applicants: California Independent System Operator Corporation.

Description: Compliance filing: 2022-04-06 NAESB Compliance Filing to be effective 5/1/2022.

Filed Date: 4/6/22.

Accession Number: 20220406-5045.

Comment Date: 5 p.m. ET 4/27/22.

Docket Numbers: ER21-2525-002.

Applicants: Alabama Power Company.

Description: Compliance filing: OATT Attachment O Order No. 676-I Second Compliance Filing to be effective 5/1/2022.

Filed Date: 4/6/22.

Accession Number: 20220406-5088.

Comment Date: 5 p.m. ET 4/27/22.

Docket Numbers: ER21-2526-002.

Applicants: New York Independent System Operator, Inc.

Description: Compliance filing: NYISO Compliance re: 03/07/22 Order on Compliance for NAESB WEQ Standards to be effective 5/1/2022.

Filed Date: 4/6/22.

Accession Number: 20220406-5118.

Comment Date: 5 p.m. ET 4/27/22.

Docket Numbers: ER22-1023-001.

Applicants: Florida Power & Light Company.

Description: Tariff Amendment: FPL Amendments to Filing to be effective 3/1/2022.

Filed Date: 4/6/22.

Accession Number: 20220406-5171.

Comment Date: 5 p.m. ET 4/27/22.

Docket Numbers: ER22-1151-001.

Applicants: Alabama Power Company, Georgia Power Company, Mississippi Power Company.

Description: Compliance filing: Alabama Power Company submits tariff filing per 35: OATT Attachment O Order No. 676-J Cyber and PFV Updated Compliance Filing to be effective 12/31/9998.

Filed Date: 4/6/22.

Accession Number: 20220406-5092.

Comment Date: 5 p.m. ET 4/27/22.

Docket Numbers: ER22-1394-000.

Applicants: California Independent System Operator Corporation.

Description: Report Filing: 2022-04-06 Supplemental Filing to Amendment No. 1 of JOU Pilot Agreement to be effective N/A.

Filed Date: 4/6/22.

Accession Number: 20220406-5054.

Comment Date: 5 p.m. ET 4/18/22.

Docket Numbers: ER22-1580-000.

Applicants: Wisconsin Power and Light Company, Alliant Energy Corporate Services, Inc.

Description: Request for Waiver of Affiliate Rules, et al. of Wisconsin Power and Light Company.

Filed Date: 4/5/22.

Accession Number: 20220405-5103.

Comment Date: 5 p.m. ET 4/26/22.

Docket Numbers: ER22-1582-000.

Applicants: Southwest Power Pool, Inc.

Description: § 205(d) Rate Filing: Revisions to Update the Competitive Upgrade Re-Evaluation Process to be effective 6/6/2022.

Filed Date: 4/6/22.

Accession Number: 20220406-5033.

Comment Date: 5 p.m. ET 4/27/22.

Docket Numbers: ER22-1583-000.

Applicants: Southwest Power Pool, Inc.

Description: § 205(d) Rate Filing: Revisions to Update Transmission Owner Selection Criteria and Scoring to be effective 6/6/2022.

Filed Date: 4/6/22.

Accession Number: 20220406-5034.

Comment Date: 5 p.m. ET 4/27/22.

Docket Numbers: ER22-1584-000.

Applicants: PJM Interconnection, L.L.C.

Description: § 205(d) Rate Filing: Original WMPA, SA No. 6398; Queue No. AG1-029 to be effective 3/8/2022.

Filed Date: 4/6/22.

Accession Number: 20220406-5049.

Comment Date: 5 p.m. ET 4/27/22.

Docket Numbers: ER22-1585-000.

Applicants: PJM Interconnection, L.L.C.

Description: § 205(d) Rate Filing: Second Amendment of ISA SA No. 5548; Queue No. AC1-076/AE2-134 to be effective 12/16/2019.

Filed Date: 4/6/22.

Accession Number: 20220406-5052.

Comment Date: 5 p.m. ET 4/27/22.

Docket Numbers: ER22-1586-000.

Applicants: Alabama Power Company, Georgia Power Company, Mississippi Power Company.

Description: § 205(d) Rate Filing: Alabama Power Company submits tariff filing per 35.13(a)(2)(iii: OATT Attachment T Amendment Filing to be effective 5/1/2022.

Filed Date: 4/6/22.

Accession Number: 20220406-5089.

Comment Date: 5 p.m. ET 4/27/22.

Docket Numbers: ER22-1587-000.

Applicants: PJM Interconnection, L.L.C.

Description: § 205(d) Rate Filing: Revisions to OA, Schedule 2—Enhancements to Fuel Cost Policy Requirements to be effective 6/7/2022.

Filed Date: 4/6/22.

Accession Number: 20220406-5097.

Comment Date: 5 p.m. ET 4/27/22.

Docket Numbers: ER22-1588-000.

Applicants: Southwest Power Pool, Inc.

Description: § 205(d) Rate Filing: 3293R3 Thunderhead Wind Energy GIA to be effective 3/9/2022.

Filed Date: 4/6/22.

Accession Number: 20220406-5114.

Comment Date: 5 p.m. ET 4/27/22.

Docket Numbers: ER22-1589-000.

Applicants: Traverse Wind Energy LLC.

Description: Tariff Amendment: Traverse Wind Energy LLC—Cancellation of Tariff to be effective 4/6/2022.

Filed Date: 4/6/22.

Accession Number: 20220406-5154.

Comment Date: 5 p.m. ET 4/27/22.

Docket Numbers: ER22-1590-000.

Applicants: El Paso Electric Company.

Description: § 205(d) Rate Filing: Service Agreement No. 368, Nonconforning LGIA with NextEra Energy to be effective 6/6/2022.

Filed Date: 4/6/22.

Accession Number: 20220406-5178.

Comment Date: 5 p.m. ET 4/27/22

Take notice that the Commission received the following PURPA 210(m)(3) filings:

Docket Numbers: QM22-9-000.

Applicants: Allegheny Electric Cooperative, Inc.

Description: Application of Allegheny Electric Cooperative Inc. to Terminate Its Mandatory Purchase Obligation under the Public Utility Regulatory Policies Act of 1978 under QM22-9.

Filed Date: 4/4/22.

Accession Number: 20220404-5327.

Comment Date: 5 p.m. ET 5/02/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date.

Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2022.
Debbie-Anne A. Reese,
Deputy Secretary.

[FR Doc. 2022-07763 Filed 4-11-22; 8:45 am]

BILLING CODE 6717-01-P